DEPARTMENT OF TRANSPORTATION

Federal Aviation Administration

14 CFR Part 39

[Docket No. FAA-2006-26110; Directorate Identifier 2006-NM-112-AD]

RIN 2120-AA64

Airworthiness Directives; Boeing Model 747-400, 747-400D, and 747-400F Series Airplanes

AGENCY: Federal Aviation Administration (FAA), Department of Transportation (DOT).

ACTION: Notice of proposed rulemaking (NPRM).

SUMMARY: The FAA proposes to adopt a new airworthiness directive (AD) for certain Boeing Model 747-400, 747-400D, and 747-400F series airplanes. This proposed AD would require replacement of an electronic flight information system/engine indicating and crew alerting system (EFIS/EICAS) interface unit (EIU) located on the E2-6 shelf of the main equipment center with a new or modified EIU. This proposed AD results from two instances where all six integrated display units (IDUs) on the flight deck panels went blank in flight. We are proposing this AD to prevent loss of the IDUs due to failure of all three EIUs, which could result in the inability of the flightcrew to maintain safe flight and landing of the airplane.

DATES: We must receive comments on this proposed AD by December 11, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Boeing Commercial Airplanes, P.O. Box 3707, Seattle, Washington 98124-2207, for the service information identified in this proposed AD.

FOR FURTHER INFORMATION CONTACT: Jay Yi, Aerospace Engineer, Systems and Equipment Branch, ANM-130S, FAA, Seattle Aircraft Certification Office, 1601 Lind Avenue, SW., Renton, Washington 98057-3356; telephone (425) 917-6494; fax (425) 917-6590.

SUPPLEMENTARY INFORMATION:

Comments Invited

We invite you to submit any relevant written data, views, or arguments regarding this proposed AD. Send your comments to an address listed in the ADDRESSES section. Include the docket number “FAA-2006-26110; Directorate Identifier 2006-NM-112-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

We have received a report indicating that all six integrated display units (IDUs) on the flight deck panels went blank in flight, on two Boeing Model 747-400 series airplanes. With these failures the primary displays of attitude, airspeed, and altitude are lost. Also, engine, navigation, and other status and necessary displays are lost. In both instances, the flightcrew was able to land the airplane safely. The six IDUs were returned to normal operation after cycling (pulling out and then pushing back) the circuit breakers for the electronic flight information system/engine indicating and crew alerting system (EFIS/EICAS) interface units (EIUs). Investigation revealed that all six IDUs blanked because all three of the EIUs stopped transmitting data to the IDUs over a period of time. This condition, if not corrected, could result in the inability of the flightcrew to maintain safe flight and landing of the airplane.

Other Related Rulemaking

On May 5, 2004, we issued AD 2004-10-05, amendment 39-13635 (69 FR 28051, May 18, 2004), applicable to certain Boeing Model 747-400, 747-400D, and 747-400F series airplanes; Model 757-200, 757-200PF, and 757-200CB series airplanes; and Model 767-200, 767-300, and 767-300F series airplanes. That AD requires modification of the air data computer (ADC) system, which involves installing certain new circuit breakers, relays, and related components and making various wiring changes in and between the flight deck and main equipment center. For certain airplanes, that AD also requires accomplishment of various other actions prior to or concurrently with the modification of the ADC system. For certain airplanes, that AD also contains an option that extends the compliance time to accomplish the modification of the ADC system. Specifically, paragraph (d)(1) of AD 2004-10-05 requires the following concurrent actions for Model 747-400, 747-400D, and 747-400F series airplanes: Replacement of EIUs with improved EIUs; installation of new software in the IDUs and EIUs; replacement of certain central maintenance computers (CMCs) with improved CMCs and modification of related wiring and the data loader control panel; and installation of new software in the CMC; as applicable. Replacing all three EIUs with new or modified EIUs in accordance with paragraph (f) of this proposed AD is acceptable for compliance with the replacement of EIUs with improved EIUs required by paragraph (d)(1) of AD 2004-10-05. All other actions required by paragraph (d)(1) of AD 2004-10-05 must be complied with.

Relevant Service Information

We have reviewed Boeing Service Bulletin 747-31-2368, Revision 1, dated July 24, 2006. The service bulletin describes procedures for replacing the three EIUs, part number (P/N) 622-8589-104, located on the E2-6 shelf of the main equipment center with EIUs that have auto restart circuitry, P/N 622-8589-105. Accomplishing the actions specified in the service information is intended to adequately address the unsafe condition.

Boeing Service Bulletin 747-31-2368 refers to Rockwell Collins Service Bulletin EIU-7000-31-502, dated March 21, 2006, as an additional source of service information for modifying an EIU by adding auto restart circuitry, which converts EIU P/N 622-8589-104 to P/N 622-8589-105.

FAA's Determination and Requirements of the Proposed AD

We have evaluated all pertinent information and identified an unsafe condition that is likely to exist or develop on other airplanes of this same type design. For this reason, we are proposing this AD, which would require accomplishing the actions specified in the service information described previously, except as discussed under “Difference Between the Proposed AD and Service Bulletin.”

Difference Between the Proposed AD and Service Bulletin

Boeing Service Bulletin 747-31-2368 recommends replacing all three EIUs located on the E2-6 shelf of the main equipment center with improved EIUs. However, this proposed AD would require replacing only one of the three EIUs. Since the three EIUs are identical to provide triple redundancy, we have determined that replacement of at least one EIU will adequately address the unsafe condition of this proposed AD. We have coordinated this difference with Boeing.

Costs of Compliance

There are about 639 airplanes of the affected design in the worldwide fleet. This proposed AD would affect about 79 airplanes of U.S. registry. The proposed actions would take about 1 work hour per airplane, at an average labor rate of $80 per work hour. Required parts would cost about $2,840 per airplane (to replace one EIU). Based on these figures, the estimated cost of the proposed AD for U.S. operators is $230,680, or $2,920 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Boeing: Docket No. FAA-2006-26110; Directorate Identifier 2006-NM-112-AD.

Comments Due Date

(a) The FAA must receive comments on this AD action by December 11, 2006.

Affected ADs

(b) Accomplishing paragraph (f) of this AD for all three electronic flight information system/engine indicating and crew alerting system (EFIS/EICAS) interface units (EIUs) terminates certain requirements of AD 2004-10-05, amendment 39-13635.

Applicability

(c) This AD applies to Boeing Model 747-400, 747-400D, and 747-400F series airplanes, certificated in any category; as identified in Boeing Service Bulletin 747-31-2368, Revision 1, dated July 24, 2006.

Unsafe Condition

(d) This AD results from two instances where all six integrated display units (IDUs) on the flight deck panels went blank in flight. We are issuing this AD to prevent loss of the IDUs due to failure of all three EIUs, which could result in the inability of the flightcrew to maintain safe flight and landing of the airplane.

Compliance

(e) You are responsible for having the actions required by this AD performed within the compliance times specified, unless the actions have already been done.

Replacement

(f) Within 60 months after the effective date of this AD, replace at least one of the three EIUs, part number (P/N) 622-8589-104, located on the E2-6 shelf of the main equipment center with a new or modified EIU, P/N 622-8589-105, in accordance with the Accomplishment Instructions of Boeing Service Bulletin 747-31-2368, Revision 1, dated July 24, 2006.

Note 1: Boeing Service Bulletin 747-31-2368, Revision 1, dated July 24, 2006, refers to Rockwell Collins Service Bulletin EIU-7000-31-502, dated March 21, 2006, as an additional source of service information for modifying an EIU by adding auto restart circuitry, which converts EIU P/N 622-8589-104 to P/N 622-8589-105.

Credit for Previous Service Bulletin

(g) Actions done before the effective date of this AD in accordance with Boeing Service Bulletin 747-31-2368, dated November 22, 2005 (Revision 1 of the service bulletin specifies that the original issue is dated December 1, 2005), are acceptable for compliance with the corresponding requirements of paragraph (f) of this AD.

Credit for AD 2004-10-05

(h) Replacing all three EIUs with new or modified EIUs in accordance with paragraph (f) of this AD is acceptable for compliance with only the EIU replacement of paragraph (d)(1) of AD 2004-10-05. All other actions required by paragraph (d)(1) of AD 2004-10-05 must be complied with.

Alternative Methods of Compliance (AMOCs)

(i)(1) The Manager, Seattle Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Issued in Renton, Washington, on October 13, 2006.
Kalene C. Yanamura,
Acting Manager, Transport Airplane Directorate, Aircraft Certification Service.

[FR Doc. E6-17655 Filed 10-25-06; 8:45 am]

BILLING CODE 4910-13-P